DEPARTMENT OF TRANSPORTATION

Federal Aviation Administration

Notice of Intent To Rule on Request To Release Airport Property at Monroe Regional Airport, Monroe, LA

AGENCY: Federal Aviation Administration (FAA) DOT.

ACTION: Request for Public Comment.

SUMMARY: The FAA proposes to rule and invites public comment on the release of land at Monroe Regional Airport under the provisions of Title 49, U.S.C. Section 47153(c).

DATES: Comments must be received on or before November 1, 2010.

ADDRESSES: Comments on this application may be mailed or delivered to the FAA at the following address:

Mr. Lacey D. Spriggs, Manager, Federal Aviation Administration, LA/NM Airports Development Office, ASW-640, 2601 Meacham Boulevard, Fort Worth, Texas 76137-0640.

In addition, one copy of any comments submitted to the FAA must be mailed or delivered to Mayor James E. Mayo at the following address:

Office of the Mayor, P.O. Box 123, Monroe, LA 71210.

FOR FURTHER INFORMATION CONTACT: Lacey D. Spriggs, Manager, Federal Aviation Administration, LA/NM Airports Development Office, ASW-640, 2601 Meacham Boulevard, Fort Worth, Texas 76137-0640.

The request to release property may be reviewed in person at this same location.

SUPPLEMENTARY INFORMATION: The FAA invites public comment on the request to release property at the Monroe Regional Airport.

On September 20, 2010, the FAA determined that the request to release property at Monroe Regional Airport submitted by the City of Monroe met the procedural requirements of the Federal Aviation Regulations, Part 155. The FAA may approve the request, in whole or in part, no later than November 15, 2010.

The following is a brief overview of the request:

The City of Monroe, Louisiana requests the release of 1.643 acres of airport property. The release of property will allow for construction of a new facility for office space and warehouse for JAF Properties, LP to proceed. The sale is estimated to provide $45,200.00 whereas the proceeds will be used to continue the Bermuda Release Program and used to upgrade and expand the security camera system to include more of the Security Passenger Holding area as well as cameras for airfield surveillance.

Any person may inspect the request in person at the FAA office listed above under “FOR FURTHER INFORMATION CONTACT.”

In addition, any person may, upon request, inspect the application, notice and other documents germane to the application in person at the Monroe Regional Airport, Monroe, Louisiana.

Issued in Fort Worth, Texas on September 21, 2010.
Joseph G. Washington,
Acting Manager, Airports Division.

[FR Doc. 2010-24541 Filed 9-29-10; 8:45 am]

BILLING CODE P